DEPARTMENT OF THE INTERIOR

Bureau of Land Management

[Docket Nos. 4310-DN-P and MT-924-02-1430-FM]

Notice of Intent To Amend the Judith-Valley-Phillips Resource Management Plan; Fergus County, MT

AGENCY: Bureau of Land Management, Interior.

ACTION: Notice of intent to amend the Judith-Valley-Phillips Resource Management Plan.

SUMMARY: Notice is hereby given that the Bureau of Land Management (BLM) will consider amending the Judith-Valley-Phillips Resource Management Plan regarding the management of public lands in Fergus County. The BLM proposes exchanging 160 acres of Federal land for 161.30 acres of private land, all in Fergus County. The Federal land is legally described as:

Fergus County

T14N, R21E, PMM

Sec. 30: SENE, E2SE

Sec. 31: NENE

Disposal of the Federal land described above was not analyzed in the Judith-Valley-Phillips Resource Management Plan (RMP) and associated Environmental Impact Statement. Disposal of the Federal land requires that the specific tracts be identified in the land use plan with the criteria to be met for exchange and discussion of how the criteria have been satisfied. This will be part of the plan amendment being considered and an Environmental Assessment prepared to analyze the effects of disposal.

ADDRESSES: Comments should be sent to David L. Mari, Field Manager, Lewistown Field Office, P.O. Box 1160, Lewistown, MT 59457-1160. Comments, including names and street addresses of respondents, will be available for public review at the Lewistown Field Office during regular business hours. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

DATES: Comments and recommendations on this notice to amend the Judith-Valley-Phillips RMP should be received on or before July 18, 2002.

FOR FURTHER INFORMATION CONTACT: Loretta Park, Realty Specialist, 406-538-1910.

David L. Mari,
Field Manager.

[FR Doc. 02-15310 Filed 6-17-02; 8:45 am]

BILLING CODE 4310-JB-P